DEPARTMENT OF THE INTERIOR

National Park Service

Notice of Realty Action Proposed Exchange of Federally-Owned Lands for State-Owned Lands Located in Alleghany County, State of North Carolina

AGENCY: National Park Service, Interior.

ACTION: Notice of realty action for proposed land exchange.

SUMMARY: The following described Federally-owned land which was acquired by the National Park Service has been determined to be suitable for disposal by exchange. The authority for this exchange is Public Law 87-76 (75 Stat. 196), which authorized the purchase and exchange of land and interests therein on the Blue Ridge Parkway.

DATES: Comments on this proposed land exchange will be accepted through February 6, 2003.

ADDRESSES: Detailed information concerning this exchange including precise legal descriptions, Land Protection Plan, environmental assessment, and cultural reports, and Finding of No Significant Impact are available at the National Trails Land Resources Program Center, 1314 Edwin Miller Boulevard, P.O. Box 908, Martinsburg, West Virginia, 25402. Comments may also be mailed to this address.

FOR FURTHER INFORMATION CONTACT: Judy L. Brumback, Chief, Acquisition Division, National Park Service, National Trails Land Resources Program Center, P.O. Box 908, Martinsburg, WV 25402-0908. Phone: 304-263-4943.

SUPPLEMENTARY INFORMATION: The selected interest in Federal land is located within the boundaries of the Blue Ridge Parkway and is not required for inclusion into the park unit area. The land has been surveyed for cultural resources and endangered and threatened species. These reports are available upon request.

Fee ownership of the following Federally-owned property is to be exchanged: Tract 33-141 is a 101.971-acre portion of 145.8 acres acquired by the United States of America by deed recorded in book 98, page 545, in the Clerk's Office of the Circuit Court of Alleghany County, State of North Carolina and in book 540, page 684, in the Clerk's Office of the Circuit Court of Wilkes County, State of North Carolina. Conveyance of the land by the United States of America will be done by Quitclaim Deed.

In exchange for the land described in the previous paragraph, the United States of America will acquire a 100.923-acre parcel of land currently owned by the State of North Carolina, lying within the boundaries of the Blue Ridge Parkway. Acquisition of these State lands will eliminate access from this parcel to the Parkway at Survey Station 238 and prevent construction and development upon completion of the exchange. The lands are being acquired in fee simple with no reservations, subject only to rights of way and easements of record.

The land to be acquired by the United States of America is described as follows: Tract 33-114 is a 100.923-acre portion of 124.48 acres acquired by the State of North Carolina and recorded in book 219, page 543, in the Clerk's Office of the Circuit Court of Alleghany County, State of North Carolina. Conveyance of the fee simple title will be done by a Quitclaim Deed as approved by the Solicitor's Office.

The value of the properties exchanged will be determined by a current fair market value appraisal and if they are not appropriately equal, the values shall be equalized by payment of cash, as circumstances require.

Interested parties may submit written comments to the address listed in the ADDRESSES paragraph. Adverse comments will be evaluated and this action may be modified or vacated accordingly. In the absence of any action to modify or vacate, this realty action will become the final determination of the Department of the Interior.

Dated: November 22, 2002.
Daniel W. Brown,
Superintendent, Blue Ridge Parkway.

[FR Doc. 02-32237 Filed 12-20-02; 8:45 am]

BILLING CODE 4310-70-P